INTERNATIONAL TRADE COMMISSION

[Investigation No. 731-TA-1102 (Preliminary)]

Activated Carbon From China

AGENCY: United States International Trade Commission.

ACTION: Notice of withdrawal of petition in antidumping investigation.

SUMMARY: On February 15, 2006, the Department of Commerce and the Commission received a letter from petitioners in the subject investigation (Calgon Carbon Corporation, Pittsburgh, PA, and Norit Americas, Inc., Marshall, TX) withdrawing their petition. Commerce has not initiated an investigation as provided for in section 732(c) of the Tariff Act of 1930 (19 U.S.C. 1673a(c)). Accordingly, the Commission gives notice that its antidumping investigation concerning activated carbon from China (investigation No. 731-TA-1102 (Preliminary)) is discontinued.

EFFECTIVE DATE: February 15, 2006.

FOR FURTHER INFORMATION CONTACT: Jim McClure (202-205-3191), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

By order of the Commission.
Issued: February 15, 2006.
Marilyn R. Abbott,
Secretary to the Commission.

[FR Doc. E6-2468 Filed 2-21-06; 8:45 am]

BILLING CODE 7020-02-P